OFFICE OF PERSONNEL MANAGEMENT

48 CFR Part 2152

Precontract Provisions and Contract Clauses

CFR Correction

In Title 48 of the Code of Federal Regulations, Parts 1500 to 2899, revised as of October 1, 2007, on page 440, in section 2152.370, reinstate paragraphs (a) and (b) before the table to read as follows:

2152.370 Use of the matrix.

(a) The matrix in this section lists the FAR and LIFAR clauses to be used with the FEGLI Program contract. The clauses are to be incorporated in the contract in full text.

(b) Certain contract clauses are mandatory for FEGLI Program contracts. Other clauses are to be used only when made applicable by pertinent sections of the FAR or LIFAR. An “M” in the “Use Status” column indicates that the clause is mandatory. An “A” indicates that the clause is to be used only when the applicable conditions are met.

* * * * *

[FR Doc. 08-55504 Filed 3-18-08; 8:45 am]

BILLING CODE 1505-01-S